DEPARTMENT OF COMMERCE

National Telecommunications and Information Administration

47 CFR Part 301

[Docket Number: 0612242667-7051-01]

RIN 0660-AA16

Rules to Implement and Administer a Coupon Program for Digital-to-Analog Converter Boxes; Correction

AGENCY: National Telecommunications and Information Administration, Department of Commerce.

ACTION: Final rule; correction.

SUMMARY: On March 15, 2007, the National Telecommunications and Information Administration (NTIA) published a final rule (72 FR 12097) in the above-referenced proceeding (Final Rule). The dates heading on page 12097 incorrectly sets out the effective date as April 16, 2007. The correct effective date of the Final Rule is May 16, 2007.

DATES: The effective date of the Final Rule published March 15, 2007 (72 FR 12097) is corrected to May 16, 2007.

FOR FURTHER INFORMATION CONTACT: Milton Brown, NTIA (202) 482-1816.

SUPPLEMENTARY INFORMATION: On March 15, 2007, the National Telecommunications and Information Administration (NTIA) published a Final Rule (72 FR 12097). The dates heading on page 12097 incorrectly sets out the effective date as April 16, 2007. The correct effective date of the Final Rule is May 16, 2007.

Executive Order 12866: This rule correcting the effective date (Correcting Rule) is determined to be not significant under EO 12866.

Administrative Procedure Act: NTIA finds good cause to waive prior notice and an opportunity for public comment as it is impracticable and contrary to the public interest. The Final Rule indicated that the effective date of the Final Rule is April 16, 2007. It was NTIA's intent to have the rule come into effect on May 16, 2007. Due to an inadvertent error, the Final Rule reflected an incorrect effective date. If this Correcting Rule is delayed to allow for prior notice and an opportunity for public comment, the Final Rule would come into effect on an incorrect date, which would be contrary to the intent of NTIA and this Correcting Rule. In order to prevent the Final Rule from coming into effect on an incorrect date, NTIA finds good cause to waive the notice and comment rulemaking requirements for this Correcting Rule.

For the reasons above, NTIA waives under 5 U.S.C. § 553, the 30-day delay in effectiveness for the Correcting Rule. If this Correcting Rule was delayed for 30 days, the regulations promulgated by the Final Rule would be implemented on an incorrect effective date. To prevent the Final Rule from coming into effect on an incorrect date, NTIA finds good cause to waive the 30-day delay in effectiveness for the Correcting Rule.

Dated: April 9, 2007.
Kathy D. Smith,
Chief Counsel, National Telecommunications and Information Administration.

[FR Doc. E7-6954 Filed 4-11-07; 8:45 am]

BILLING CODE 3510-60-S